DEPARTMENT OF COMMERCE

National Oceanic and Atmospheric Administration

50 CFR Parts 223 and 224

[I.D. 062005C]

Endangered and Threatened Species: Recovery Plan Preparation for 16 Evolutionarily Significant Units (ESUs) of Pacific Salmon and Steelhead

AGENCY: National Marine Service (NMFS), National Oceanic and Atmospheric Administration (NOAA), Commerce.

ACTION: Notice of intent; request for information.

SUMMARY: NMFS announces its intent to develop recovery plans for 16 ESUs of Pacific salmon and steelhead in the Northwest listed as threatened or endangered under the Endangered Species Act (ESA) and requests information from the public. NMFS is required by the ESA to develop and implement recovery plans for the conservation and survival of listed species. NMFS is working with state, Federal, tribal and local entities in Washington, Oregon and Idaho to produce draft recovery plans by December 2005.

DATES: All information must be received no later than 5 p.m. Pacific Daylight Time on September 6, 2005.

ADDRESSES: Information may be submitted by any of the following methods:

• E-mail: The mailbox address for submitting e-mail information for recovery planning is RecoveryInfo.nwr@noaa.gov. Please include in the subject line of the e-mail comment the identifier “Information for ESA Recovery Planning, Attention: (insert name of appropriate NMFS Recovery Coordinator)” and specify the recovery domain to which your information applies (see FOR FURTHER INFORMATION CONTACT).

• Federal e-rulemaking portal: http://www.regulations.gov

• Mail: Submit written comments and information to Salmon Recovery Branch Chief, NMFS, Salmon Recovery Division, 1201 NE Lloyd Boulevard, Suite 1100, Portland, Oregon, 97232-1274. Please identify information as regarding the “Information for ESA Recovery Planning.”

• Hand Delivery/Courier: NMFS, Salmon Recovery Division, 1201 NE Lloyd Boulevard, Suite 1100, Portland, Oregon, 97232-1274. You can hand-deliver written information to our office at the street address above. Business hours are 8 a.m. to 5 p.m., Monday through Friday, except Federal holidays.

• Fax: 503-872-2737. Please identify the fax comment as regarding “Information for Recovery Plans” and specify the recovery domain to which your information applies (see FOR FURTHER INFORMATION CONTACT).

FOR FURTHER INFORMATION CONTACT: NMFS, Northwest Region, Salmon Recovery Division, and contact the recovery coordinator listed below for the area in which you are interested. Additional salmon-related materials are available on the Internet at www.nwr.noaa.gov.

Puget Sound Recovery Domain: Elizabeth Babcock, (phone: 206-526-4505), email address: Elizabeth.Babcock@noaagov; Upper Columbia Recovery Domain: Lynn Hatcher, (phone: 509-962-8911 x 223), email address: Lynn.Hatcher@noaa.gov; Mid Columbia Recovery Domain: Paula Burgess, (phone: 503-808-6525), email address: Paula.Burgess@noaa.gov; Willamette/Lower Columbia Recovery Domain: Patty Dornbusch, (phone: 503-230-5430), email address: Patty.Dornbusch@noaa.gov; Oregon Coast Recovery Domain: Rosemary Furfey, (phone: 503-231-2149), email address: Rosemary.Furfey@noaa.gov; Snake River Recovery Domain: David Mabe, (phone: 208-378-5698), email address: David.Mabe@noaa.gov.

SUPPLEMENTARY INFORMATION: NMFS is charged with the recovery of Pacific salmon and steelhead species listed under the ESA. Recovery under the Act means that listed species and their ecosystems are restored, and their future secured, so that the protections of the ESA are no longer necessary.

There are 15 “distinct population segments” or ESUs of salmon and steelhead listed as threatened or endangered in Oregon, Washington, and Idaho:

Chinook Salmon (Oncorhynchus tshawytscha): Upper Willamette River; Lower Columbia River; Upper Columbia River Spring-run; Puget Sound; Snake River Fall-run; and Snake River Spring/Summer-run.

Chum Salmon (Oncorhynchus keta): Hood Canal summer-run; Columbia River.

Sockeye Salmon (Oncorhynchus nerka): Snake River; Ozette Lake.

Steelhead Salmon (Oncorhynchus mykiss): Upper Willamette River; Lower Columbia River; Middle Columbia River; Upper Columbia River; Snake River Basin.

NMFS has proposed to list Oregon Coast coho and the Lower Columbia River coho ESUs as threatened (69 FR 33102; June 14, 2004). If these ESUs are listed, they will be included in the Oregon Coast and Willamette/Lower Columbia River recovery planning efforts. Notice of recovery plans for the Southern Oregon/Northern California Coast coho ESU will be announced separately with other California ESUs.

The ESA requires that NMFS develop and implement recovery plans for the conservation and survival of endangered and threatened species. These recovery plans provide blueprints to determine priority recovery actions for funding and implementation. The ESA specifies that recovery plans must include: (1) a description of site-specific management actions as may be necessary to achieve the plan's goals for the conservation and survival of the species; (2) objective, measurable criteria, which when met, would result in the species being removed from the list; and (3) estimates of the time and costs required to achieve the plan's goal and achieve intermediate steps toward that goal. NMFS will take into consideration information provided during this comment period to prepare draft recovery plans.

In order to develop recovery plans that address multiple species in an ecosystem context, NMFS organized the listed and proposed ESUs in the Northwest into six recovery areas or “domains” (Puget Sound, Upper Columbia, Middle Columbia, Snake River, Oregon Coast, and Willamette/Lower Columbia). Each domain will have a recovery plan that addresses all listed salmon and steelhead ESUs within that area. While each recovery plan will meet the requirements of the ESA and will utilize consistent scientific principles, each plan also will be unique because of conditions in that domain and because it will be based on local initiatives such as the State of Washington's regional recovery boards, the Northwest Power and Conservation Council's subbasin plans and the State of Oregon's Oregon Plan for Salmon and Watersheds' Oregon Coast Coho Project. To develop key technical products and provide science support NMFS formed teams of scientists, called “Technical Recovery Teams” for: Puget Sound, Willamette/Lower Columbia, Interior Columbia, and Oregon Coast recovery domains. Finally, NMFS has developed a schedule for producing draft recovery plans in each recovery domain by December 2005. Because draft recovery plans will be based on local recovery planning efforts, the level of detail in these draft recovery plans completed by December will vary. After further local public review by federal agencies, state and tribal co-managers, and interested persons, NMFS will publish proposed recovery plans in the Federal Register and public comment will be sought for each proposed plan.

As part of its recovery planning process, NMFS published a Notice of Availability of a Draft Interim Regional Recovery Plan for Portions of Three ESUs of Salmon and Steelhead within the Washington Lower Columbia Management Unit (70 FR 20531; April 20, 2005). Public comment is being sought until June 20, 2005, on this draft regional recovery plan.

NMFS requests relevant information from the public that should be addressed during preparation of draft recovery plans. Such information should address: (1) criteria for removing the ESUs from the list of threatened and endangered species; (2) factors that are presently limiting, or threaten to limit survival of the ESUs; (3) actions to address limiting factors and threats; (4) estimates of time and cost to implement recovery actions; and 5) research, monitoring, and evaluation needs.

Authority: 16 U.S.C. 1531 et seq.

Dated: June 30, 2005.
P. Michael Payne,
Acting Division Chief, Endangered Species Division, Office of Protected Resources, National Marine Fisheries Service.

[FR Doc. 05-13394 Filed 7-6-05; 8:45 am]

BILLING CODE 3510-22-S